NATIONAL SCIENCE FOUNDATION

Proposal Review Panel for Human Development; Notice of Meeting

In accordance with the Federal Advisory Committee Act (Pub. L. 92-463, as amended), the National Science Foundation announces the following meeting.

Name: Louis Stokes Alliances for Minority Participation Program, Proposal Review Panel for Human Development (1199).

Date/Time: April 22, 2009; 8 a.m.-6:15 p.m., April 23, 2009; 8 a.m.-4 p.m.

Place: Howard University, 2400 Sixth Street, NW., WDC 20059.

Type of Meeting: Partially Closed.

Contact Persons: A. James Hicks, Senior Program Director, Harry Bass, Program Director or Martha James, Assistant Program Director, Louis Stokes Alliances for Minority Participation Program, National Science Foundation, Arlington, Virginia, 703-292-8640.

Purpose of Meeting: NSF pre-award site visit to conduct an in-depth evaluation of past performance and to evaluate proposed plans to support continued funding.

Agenda

Wednesday, April 22, 2009

8 a.m.-12 Introductions & Overview, Vision, Strategy & Alliance Program Overview (Open)

12:15 p.m.-1:15 p.m. Lunch

1:15 p.m.-6:15 p.m. Strengths, Weaknesses, Opportunities, Threats (SWOT) Evaluation and Assessment, Issue Generation Executive Session, Report Preparation (Closed)

Thursday, April 23, 2009

8 a.m.-12 Visit to Selected Partner Institution(s) or Meetings with faculty, students, advisory/governing board (Open)

12-1 p.m. Lunch

1:15 p.m.-3 p.m. Discussions with Alliance Leadership/Management Team (Closed)

3:15-4 Debriefing, Wrap-Up and Departure (Closed)

Reason for Late Notice: Due to scheduling complications and the necessity to proceed with the site visit.

Reason for Closing: Topics to be discussed and evaluated during the site review will include information of a proprietary or confidential nature, including technical information; and information on personnel. These matters are exempt under 5 U.S.C. 552b(c), (4) and (6) of the Government in the Sunshine Act.

Dated: April 14, 2009.
Susanne Bolton,
Committee Management Officer.

[FR Doc. E9-8813 Filed 4-16-09; 8:45 am]

BILLING CODE 7555-01-P